DEPARTMENT OF DEFENSE

Department of the Air Force

AFIT Subcommittee of the Air University Board of Visitors Meeting

AGENCY: Department of the Air Force, Air University Headquarters, DoD.

ACTION: Notice of meeting.

SUMMARY: The Air Force Institute of Technology Subcommittee of the Air University Board of Visitors will hold an open meeting on 12-14 March 2007, with the first business session beginning at 0830 in the Superintendent's Conference Room, Building 642, Wright-Patterson Air Force Base, Ohio (5 seats available). The purpose of the meeting is to give the board an opportunity to review Air Force Institute of Technology's educational programs and to present to the Commandant a report of their findings and recommendations concerning these programs.

FOR FURTHER INFORMATION CONTACT: Contact Ms. Beverly Houtz, Academic Affairs Office, Air Force Institute of Technology, (937) 255-6565 ext 4424.

Bao-Anh Trinh,
Air Force Federal Register Liaison Officer.

[FR Doc. E6-14811 Filed 9-6-06; 8:45 am]

BILLING CODE 5001-05-P